DEPARTMENT OF AGRICULTURE

Forest Service

Del Norte Resource Advisory Committee (RAC)

AGENCY: Forest Service, USDA.

ACTION: Notice of Meeting.

SUMMARY: The Del Norte Resource Advisory Committee (RAC) will meet in Crescent City, California. The committee meeting is authorized under the Secure Rural Schools and Community Self-Determination (SRS) Act (Pub. L. 110-343) and in compliance with the Federal Advisory Committee Act.

DATES: The meeting will be held January 11, 2011, from 5 p.m. to 9 p.m.

ADDRESSES: The meeting will be held at the Del Norte County Unified School District, Redwood Room, 301 West Washington Boulevard, Crescent City, California 95531.

FOR FURTHER INFORMATION CONTACT: Adam Dellinger, Committee Coordinator, Six Rivers National Forest, at (707) 441-3569; e-mail adellinger@fs.fed.us.

SUPPLEMENTARY INFORMATION: The meeting is open to the public. Through presentations and/or revised proposals, the public will present clarification on previously submitted Title II project proposals to the RAC. The RAC will vote on projects to recommend for funding. There will also be a public comment opportunity.

Dated: December 10, 2010.
Tyrone Kelley,
Forest Supervisor.

[FR Doc. 2010-31788 Filed 12-16-10; 8:45 am]

BILLING CODE 3410-11-P